NUCLEAR REGULATORY COMMISSION

[Docket No. 50-285]

Omaha Public Power District; Notice of Withdrawal of Application for Amendment to Facility Operating License

The U.S. Nuclear Regulatory Commission (the Commission) has granted the request of Omaha Public Power District (the licensee) to withdraw its July 25, 2003, application for proposed amendment to Facility Operating License No. DPR-40 for the Fort Calhoun Station, Unit No. 1 (FCS), located in Washington County, Nebraska.

The proposed amendment would have revised the facility technical specifications pertaining to FCS Technical Specification Section 3.0.2, Table 3-2, Table 3-5, 3.6, 3.7, 3.8, and the Definitions Section. This proposed change would have provided a risk-informed alternative to the existing surveillance interval for the integrated Engineered Safety Features (ESF) and Loss-of-Offsite Power testing required to be performed on each ESF equipment train during each outage. The proposed change would have modified the surveillance interval requirement for these refueling interval surveillance requirements to go to a staggered test basis scheme. Using a staggered test basis, only one train would be tested each refueling outage. Omaha Public Power District stated that this amendment was modeled after the Improved Standard Technical Specifications and is based on a study conducted by the Westinghouse Electric Company, LLC on behalf of the Combustion Engineering Owners Group in topical report WCAP-15830-P, “Staggered Integrated ESF Testing,” and Technical Specification Task Force 450.

The Commission had previously issued a Notice of Consideration of Issuance of Amendment published in the Federal Register on August 19, 2003 (68 FR 49818). However, by letter dated September 9, 2005, the licensee withdrew the proposed change.

For further details with respect to this action, see the application for amendment dated July 25, 2003, and the licensee's letter dated September 9, 2005, which withdrew the application for the license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 14th day of September 2005.
For the Nuclear Regulatory Commission.
Alan B. Wang,
Project Manager, Section 2, Project Directorate IV, Division of Licensing Project Management, Office of Nuclear Reactor Regulation.

[FR Doc. 05-18916 Filed 9-21-05; 8:45 am]

BILLING CODE 7590-01-P